DEPARTMENT OF COMMERCE

National Oceanic and Atmospheric Administration

RIN 0648-XK26

Marine Mammals; File No. 13430

AGENCY: National Marine Fisheries Service (NMFS), National Oceanic and Atmospheric Administration (NOAA), Commerce.

ACTION: Notice; Receipt of Application for Permit Amendment.

SUMMARY: Notice is hereby given that NMFS National Marine Mammal Laboratory, (Responsible Party: Dr. John Bengtson, Director), Seattle, WA, has applied for an amendment to Scientific Research Permit No. 13430-01.

DATES: Written, telefaxed, or email comments must be received on or before July 23, 2014.

ADDRESSES: The application and related documents are available for review by selecting “Records Open for Public Comment” from the Features box on the Applications and Permits for Protected Species home page, https://apps.nmfs.noaa.gov, and then selecting File No. 13430 from the list of available applications.

These documents are also available upon written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Tammy Adams or Amy Sloan, (301) 427-8401.

SUPPLEMENTARY INFORMATION: The subject amendment to Permit No. 13430 is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

Permit No. 13430, issued on February 17, 2010 (75 FR 8303), authorizes the permit holder to take Pacific harbor seals (Phoca vitulina), California sea lions (Zalophus californianus), and northern elephant seals (Mirounga angustirostris) within coastal waters and on pinniped rookeries and haul outs of Washington and Oregon during aerial, vessel, and ground surveys of pinnipeds; capture of pinnipeds for collection of tissue samples, attachment of scientific instruments and application of marks (flipper tags, brands, etc.); and harassment of marine mammals, including Eastern Distinct Population Segment Steller sea lions (Eumetopias jubatus) and Southern Resident killer whales (Orcinus orca), during underwater playback experiments. The permit also allows for a limited number of research related mortality of marine mammals. The permit is valid through January 31, 2015.

The permit holder requests an amendment to extend the expiration date to January 31, 2020, and modify one protocol. The permit holder proposes to add use of an alternate injectable sedative to reduce stress in harbor seals and California sea lions that may be caused by procedures that have prolonged handling times, such as instrument attachment. The protocols currently include administering valium; the change would be to use midazolam (and its reversal agent, flumazenil) in lieu of valium at the discretion of the attending veterinarian.

In compliance with the National Environmental Policy Act of 1969 (42 U.S.C. 4321 et seq.), an environmental assessment (EA) was prepared analyzing the effects on the human environment of issuing Permit No. 13430. Based on the analyses in the EA, NMFS determined that issuance of the permit would not significantly impact the quality of the human environment and that preparation of an environmental impact statement was not required. NMFS will determine whether that EA should be supplemented prior to making a final determination about potential impacts of issuing the amendment.

Concurrent with the publication of this notice in the Federal Register, NMFS is forwarding copies of this application to the Marine Mammal Commission and its Committee of Scientific Advisors.

Dated: June 17, 2014.
Tammy C. Adams,
Acting Chief, Permits, Conservation and Education Division, Office of Protected Resources, National Marine Fisheries Service.

[FR Doc. 2014-14527 Filed 6-20-14; 8:45 am]

BILLING CODE 3510-22-P